DEPARTMENT OF ENERGY

Federal Energy Regulatory Commission

Combined Notice of Filings

Take notice that the Commission has received the following Natural Gas Pipeline Rate and Refund Report filings:

Docket Number: PR20-44-001.

Applicants: ONEOK Gas Transportation, L.L.C.

Description: Tariff filing per 284.123(b),(e)+(g): Revised Statement of Conditions Pursuant to 18 CFR Section 284.123(g) to be effective 3/1/2020.

Filed Date: 5/1/2020.

Accession Number: 202005015344.

Comments Due: 5 p.m. ET 5/22/2020.

284.123(g) Protests Due: 5 p.m. ET 5/22/2020.

Docket Number: PR20-56-000.

Applicants: Enstor Katy Storage and Transportation, L.P.

Description: Tariff filing per 284.123(b)(2)+(g): Enstor Katy Storage SOC Filing to be effective 5/4/2020.

Filed Date: 5/4/2020.

Accession Number: 202005045089.

Comments Due: 5 p.m. ET 5/26/2020 284.123(g) Protests Due: 5 p.m. ET 7/6/2020.

Docket Numbers: RP95-408-087.

Applicants: Columbia Gas Transmission, LLC.

Description: Annual Report on Sharing Profits from Base Gas Sales with Customers of Columbia Gas Transmission, LLC.

Filed Date: 4/15/20.

Accession Number: 20200415-5156.

Comments Due: 5 p.m. ET 5/13/20.

Docket Numbers: RP20-860-000.

Applicants: Dominion Energy Questar Pipeline, LLC.

Description: § 4(d) Rate Filing: Statement of Negotiated Rates V16-Buzzard Bench to be effective 5/1/2020.

Filed Date: 5/6/20.

Accession Number: 20200506-5088.

Comments Due: 5 p.m. ET 5/18/20.

Docket Numbers: RP20-861-000.

Applicants: Rockies Express Pipeline LLC.

Description: § 4(d) Rate Filing: REX 2020-05-05 Negotiated Rate Agreements to be effective 5/5/2020.

Filed Date: 5/6/20.

Accession Number: 20200506-5142.

Comments Due: 5 p.m. ET 5/18/20.

Docket Numbers: RP20-862-000.

Applicants: Rockies Express Pipeline LLC.

Description: § 4(d) Rate Filing: REX 2020-05-06 Negotiated Rate Agreements to be effective 5/6/2020.

Filed Date: 5/6/20.

Accession Number: 20200506-5191.

Comments Due: 5 p.m. ET 5/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2020.
Nathaniel J. Davis, Sr.,
Deputy Secretary.

[FR Doc. 2020-10280 Filed 5-12-20; 8:45 am]

BILLING CODE 6717-01-P